DEPARTMENT OF HEALTH AND HUMAN SERVICES

Health Resources and Services Administration

Meeting of the National Advisory Council on Migrant Health

AGENCY: Health Resources and Services Administration (HRSA), Department of Health and Human Services.

ACTION: Notice.

SUMMARY: In accordance with the Federal Advisory Committee Act, this notice announces that the National Advisory Council on Migrant Health (NACMH or Council) has scheduled a public meeting.

DATES: October 22, 2024, 8:30 a.m.-5:00 p.m. Eastern Time and October 23, 2024, 8:30 a.m.-5:00 p.m. Eastern Time.

ADDRESSES: This meeting will be held in-person and via webinar. The address of the meeting is 5600 Fishers Lane, Rockville, MD 20857. Instructions for joining the meeting by webinar will be posted on the NACMH website 30 business days before the meeting date. For meeting information updates, go to the NACMH website at https://www.hrsa.gov/advisory-committees/migrant-health.

FOR FURTHER INFORMATION CONTACT: Liz Rhee, NACMH Designated Federal Official (DFO), Office of Policy and Program Development, Bureau of Primary Health Care, HRSA, 5600 Fishers Lane, Rockville, MD 20857; 301-443-1082 or hrsabphcoppdnacmh@hrsa.gov.

SUPPLEMENTARY INFORMATION: NACMH advises, consults with, and makes recommendations to the Secretary of Health and Human Services on policy, program development, and other matters of significance concerning the activities under section 217 of the Public Health Service Act, as amended (42 U.S.C. 218). Specifically, NACMH provides recommendations concerning policy related to the organization, operation, selection, and funding of migrant health centers and other entities that receive grants and contracts under section 330 of the Public Health Service Act (42 U.S.C. 254b). NACMH meets twice each calendar year, or at the discretion of the DFO, in consultation with the NACMH Chair.

The agenda items for the October meeting will include topics and issues related to migratory and seasonal agricultural worker health, including impacts of heat and wildfire smoke, farmworker data, and best practices for fostering partnerships between farmworkers, health centers, growers, and community organizations. Refer to the NACMH website listed above for all current and updated information concerning the October 2024 NACMH meeting, including a draft agenda that will be posted 30 calendar days before the meeting.

Members of the public will have the opportunity to provide written comments to the Council prior to the meeting. Written statements should be sent to Liz Rhee, DFO, using the contact information above, at least 3 business days prior to the meeting. All public comments will be reviewed by the Council for consideration during the meeting, as time permits.

Individuals who plan to attend and need special assistance or another reasonable accommodation should notify Liz Rhee using the contact information listed above at least 10 business days prior to the meeting. Registration is required to attend the meeting. Registration and meeting attendance instructions will be posted on the NACHM website 30 business days prior to the meeting date. Since this meeting occurs in a federal government building, attendees must go through a security check to enter the building. Non-U.S. citizen attendees must notify HRSA of their planned attendance at least 20 business days prior to the meeting to facilitate their entry into the building. All attendees are required to present government-issued identification prior to entry.

Maria G. Button,
Director, Executive Secretariat.

[FR Doc. 2024-16119 Filed 7-22-24; 8:45 am]

BILLING CODE 4165-15-P